SUSQUEHANNA RIVER BASIN COMMISSION

Notice of Actions Taken at June 11, 2010, Meeting

AGENCY: Susquehanna River Basin Commission.

ACTION: Notice of Commission Actions.

SUMMARY: At its regular business meeting on June 11, 2010, in Harrisburg, Pennsylvania, the Commission held a public hearing as part of its regular business meeting. At the public hearing, the Commission: (1) Approved and tabled certain water resources projects, including approval of two projects involving diversions into the basin; and (2) approved amendments to its Regulatory Program Fee Schedule.

DATES: June 11, 2010.

ADDRESSES: Susquehanna River Basin Commission, 1721 N. Front Street, Harrisburg, PA 17102-2391.

FOR FURTHER INFORMATION CONTACT: Richard A. Cairo, General Counsel, telephone: (717) 238-0423, ext. 306; fax: (717) 238-2436; e-mail: rcairo@srbc.net; or Stephanie L. Richardson, Secretary to the Commission, telephone: (717) 238-0423, ext. 304; fax: (717) 238-2436; e-mail: srichardson@srbc.net. Regular mail inquiries may be sent to the above address.

SUPPLEMENTARY INFORMATION: In addition to the public hearing and its related action items identified below, the following items were also presented or acted on at the business meeting: (1) A presentation by the IMAX movie production staff at the Harrisburg Whitaker Center for Science and the Arts on development of an educational production on the future of the Chesapeake Bay; (2) a concluding report on the Paxton Creek Stormwater Management Project; (3) a progress report on implementation of the SRBC Remote Water Quality Monitoring Network; (4) a report on the present hydrologic conditions of the basin; (5) approval for proposed rulemaking amending 18 CFR parts 806 and 808, and deleting and reserving part 807; (6) ratification/approval of grants/contracts; (7) adoption of a FY-2012 budget commencing July 1, 2011; and (8) election of the member representing the State of New York as the new Chair and the member representing the Commonwealth of Pennsylvania as the new Vice Chair of the Commission to serve in the next fiscal year. The Commission heard counsel's report on legal matters affecting the Commission. The Commission also convened a public hearing and took the following actions:

Public Hearing—Projects Approved

1. Project Sponsor and Facility: Carrizo Oil & Gas, Inc. (East Branch Wyalusing Creek—Bonnice), Jessup Township, Susquehanna County, PA. Surface water withdrawal of up to 0.720 mgd.

2. Project Sponsor: Chester County Solid Waste Authority. Project Facility: Lanchester Landfill, Salisbury and Caernarvon Townships, Lancaster County, PA. Groundwater withdrawal of 0.075 mgd (30-day average) from two wells and six collection sumps; into-basin diversion of up to 0.050 mgd from the Delaware River Basin; and consumptive water use of up to 0.075 mgd.

3. Project Sponsor and Facility: Chief Oil & Gas LLC (Chest Creek—Kitchen), Chest Township, Clearfield County, PA. Surface water withdrawal of up to 0.216 mgd.

4. Project Sponsor and Facility: East Resources, Inc. (Cowanesque River—Egleston), Nelson Township, Tioga County, PA. Surface water withdrawal of up to 0.267 mgd.

5. Project Sponsor: EOG Resources, Inc. Project Facility: Blue Valley AMD Treatment Plant, Horton Township, Elk County, PA. Into-basin diversion of up to 0.322 mgd from the Ohio River Basin.

6. Project Sponsor and Facility: KMI, LLC (West Branch Susquehanna River—Owner), Mahaffey Borough, Clearfield County, PA. Surface water withdrawal of up to 2.000 mgd.

7. Project Sponsor: New Morgan Landfill Company, Inc. Project Facility: Conestoga Landfill, Bethel Township, Berks County, PA. Modification to increase consumptive water use approval (Docket No. 20061206).

8. Project Sponsor and Facility: P.H. Glatfelter Company, Spring Grove Borough, York County, PA. Consumptive water use of up to 0.460 mgd.

9. Project Sponsor and Facility: Pennsylvania General Energy Company, L.L.C. (Loyalsock Creek—Hershberger), Gamble Township, Lycoming County, PA. Surface water withdrawal of up to 0.918 mgd.

10. Project Sponsor and Facility: Pennsylvania General Energy Company, L.L.C. (Pine Creek—Poust), Watson Township, Lycoming County, PA. Surface water withdrawal of up to 0.918 mgd.

11. Project Sponsor and Facility: Stone Energy Corporation (Wyalusing Creek—Stang), Rush Township, Susquehanna County, PA. Surface water withdrawal of up to 0.750 mgd.

12. Project Sponsor and Facility: Susquehanna Gas Field Services, L.L.C., Meshoppen Borough, Wyoming County, PA. Groundwater withdrawal of up to 0.216 mgd from the Meshoppen Pizza Well.

13. Project Sponsor and Facility: Talisman Energy USA Inc. (Susquehanna River—Welles), Terry Township, Bradford County, PA. Surface water withdrawal of up to 2.000 mgd.

14. Project Sponsor: United Water PA. Project Facility: Newberry System, Newberry Township, York County, PA. Groundwater withdrawal of up to 0.071 mgd from Reeser Well 1 and 0.071 mgd from Reeser Well 2.

15. Project Sponsor: United Water PA. Project Facility: Newberry System, Newberry Township, York County, PA. Groundwater withdrawal of up to 0.066 mgd from Susquehanna Village Well 1 and 0.066 mgd from Susquehanna Village Well 2.

Public Hearing—Projects Tabled

1. Project Sponsor and Facility: Linde Corporation (Lackawanna River—Carbondale Industrial Development Authority), Fell Township, Lackawanna County, PA. Application for surface water withdrawal of up to 0.905 mgd.

2. Project Sponsor and Facility: Novus Operating, LLC (Tioga River—Mitchell), Covington Township, Tioga County, PA. Application for surface water withdrawal of up to 1.750 mgd.

3. Project Sponsor and Facility: Walker Township Water Association, Walker Township, Centre County, PA. Modification to increase the total groundwater system withdrawal limit (30-day average) from 0.523 mgd to 0.962 mgd (Docket No. 20070905).

Public Hearing—Amended Regulatory Program Fee Schedule

The Commission approved amendments to its Regulatory Program Fee Schedule intended to clarify the application of fees to certain projects and ease the impact of fees on groundwater remediation and municipal projects. There were no changes to the fee amounts.

Authority: Public Law 91-575, 84 Stat. 1509 et seq., 18 CFR parts 806, 807, and 808.

Dated: June 22, 2010.
Thomas W. Beauduy,
Deputy Director.

[FR Doc. 2010-16121 Filed 7-1-10; 8:45 am]

BILLING CODE 7040-01-P